DEPARTMENT OF HEALTH AND HUMAN SERVICES

National Institutes of Health

Center for Scientific Review Amended; Notice of Meeting

Notice is hereby given of a change in the meeting of the Neurotransporters, Receptors, and Calcium Signaling Study Section, October 2, 2014, 8:00 a.m. to October 3, 2014, 12:00 p.m., Hotel Monaco, 700 F Street NW., Washington, DC 20001 which was published in the Federal Register on September 4, 2014, 79 FR 52738.

The meeting will be held on October 2, 2014, 8:00 a.m. to 9:00 p.m. The meeting location remains the same. The meeting is closed to the public.

Dated: September 10, 2014.
Michelle Trout,
Program Analyst, Office of Federal Advisory Committee Policy.

[FR Doc. 2014-21950 Filed 9-15-14; 8:45 am]

BILLING CODE 4140-01-P